DEPARTMENT OF ENERGY

Proposed Agency Information Collection

AGENCY: Department of Energy.

ACTION: Notice and request for comments.

SUMMARY: The Department of Energy invites public comment on a proposed collection of information that the Department is developing for submission to the Office of Management and Budget (OMB) pursuant to the Paperwork Reduction Act of 1995. The proposed collection of information is in an interim final rule pertaining to standby support that was published in the Federal Register on May 15, 2006.

DATES: Consideration will be given to comments submitted by September 22, 2006. Comments may be mailed to the address given in the ADDRESSES section below. Comments also may be submitted electronically by e-mailing them to: StandbySupport@Nuclear.Energy.gov. We note that e-mail submissions will avoid delay currently associated with security screening of U.S. Postal Service mail.

ADDRESSES: You may submit written comments, identified by the term Standby Support—Paperwork Reduction Act Proposal— by any of the following methods:

1. E-mail to StandbySupport@Nuclear.Energy.gov. Include RIN 1901-AB17 and “Paperwork Reduction Act Proposal” in the subject line of the e-mail. Please include the full body of your comments in the text of the message or an attachment.

2. Federal eRulemaking Portal: http://www.regulations.gov. Follow the instructions for submitting comments.

3. Mail: Address the comments to Kenneth Chuck Wade, Office of Nuclear Energy, (NE-30) U.S. Department of Energy, Forrestal Building, 1000 Independence Avenue, SW., Washington, DC 20585. The Department requires, in hard copy, a signed original and three copies of all comments. Due to potential delays in the Department's receipt and processing of mail sent through the U.S. Postal Service, we encourage commenters to submit comments electronically to ensure timely receipt.

FOR FURTHER INFORMATION CONTACT: Kenneth Chuck Wade, Project Manager, Office of Nuclear Energy, NE-30, U.S. Department of Energy, 1000 Independence Avenue, SW., Washington, DC 20585. (301) 903-6509 or Marvin Shaw, Attorney-Advisor, U.S. Department of Energy, Office of the General Counsel, GC-52, 1000 Independence Avenue, SW., Washington, DC 20585. (202) 586-2906.

SUPPLEMENTARY INFORMATION: Collection title: Standby Support for Certain Nuclear Plant Delays.

Type of review: New collection.

OMB number: None.

Type of respondents: Sponsors of new advanced nuclear facilities.

Estimated number of respondents: Three to five per year.

Estimated total burden hours: 218.

Frequency of response: Single submission.

Abstract: On May 15, 2006, the Department published an interim final rule to implement section 638 of the Energy Policy Act of 2005 that authorizes the Secretary of Energy to enter into Standby Support Contracts with sponsors of advanced nuclear power facilities to provide risk insurance for certain delays attributed to the regulatory process or litigation. (71 FR 28200). That rule contains the following recordkeeping requirements that must be approved by OMB pursuant to the Paperwork Reduction Act of 1995 (44 U.S.C. 3501 et seq.) before sponsors can be required to comply with them: (1) Section 950.10(b) contains information collection requirements pertaining to eligibility; (2) section 950.12(a) contains information collection requirements pertaining to fulfillment of conditions precedent to a Standby Support Contract; and (3) section 950.23 contains information collection requirements pertaining to submission of claims for payment of covered costs under a Standby Support Contract.

Request for Comments: Pursuant to 44 U.S.C. 3506(c)(2)(A), the Department invites comment on: (1) Whether the recordkeeping requirements in the interim final rule are necessary; (2) the accuracy of the Department's estimate of the burden of the proposed information collection; (3) ways to enhance the quality, utility, and clarity of the information to be collected; and (4) ways to minimize the burden of the collection of information on those who choose to respond. Additional information about the Department's proposed information collection may be obtained from the contact person named in this notice.

Sharon A. Evelin,
Director, Records Management Division, Office of the Chief Information Officer.

[FR Doc. E6-11712 Filed 7-21-06; 8:45 am]

BILLING CODE 6450-01-P